DEPARTMENT OF THE INTERIOR

Bureau of Indian Affairs

[134A2100DD/AAK300000/a0t500000.000000]

Salt River Pima-Maricopa Indian Community—Amendment to Alcoholic Beverage Control Ordinance

AGENCY: Bureau of Indian Affairs, Interior.

ACTION: Notice.

SUMMARY: This notice publishes the amendment to the Salt River Pima-Maricopa Indian Community Alcoholic Beverage Control Ordinance, Chapter 14, Salt River Pima-Maricopa Indian Community Code of Ordinances to provide consistency with newly amended Arizona State Liquor Law and to enact certain technical amendments. The amended Salt River Pima-Maricopa Indian Alcohol Beverage Control Ordinance, Chapter 14 of the Salt River Pima-Maricopa Indian Community Code of Ordinances was last published in the Federal Register on July 13, 2010 (Vol. 75, No 133, FR 39960-39967). Sections 14-5(c)(4), 14-9(g), 14-18(o) and (t) of the Salt River Pima-Maricopa Indian Community Code of Ordinances shall be repealed and replaced in their entirety, and a new Section 14-12 has been added.

DATES: Effective Date: This Amendment is effective 30 days after July 24, 2013.

FOR FURTHER INFORMATION CONTACT: Sharlot Johnson, Tribal Government Services Officer, Western Regional Office, Bureau of Indian Affairs, 2600 North Central Avenue, Phoenix, AZ 85004, Phone: (602) 379-6786; Fax: (602) 379-379-4100: or De Springer, Office of Indian Services, Bureau of Indian Affairs, 1849 C Street NW., MS-4513-MIB, Washington, DC 20240; Telephone (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Salt River Pima-Maricopa Indian Community adopted this amendment to the Salt River Pima-Maricopa Indian Alcohol Beverage Control Ordinance, Chapter 14 of the Salt River Pima-Maricopa Indian Community Code of Ordinances by Ordinance Number: SRO-410-2013 on December 5, 2012.

This notice is published in accordance with the authority delegated by the Secretary of the Interior to the Assistant Secretary—Indian Affairs. I certify that the Community Council duly adopted this amendment to the Salt River Pima-Maricopa Indian Alcohol Beverage Control Ordinance, Chapter 14 of the Salt River Pima-Maricopa Indian Community Code of Ordinances on December 5, 2012.

Dated: July 17, 2013.
Kevin K. Washburn,
Assistant Secretary—Indian Affairs.

The amendment to the Salt River Pima-Maricopa Indian Alcohol Beverage Control Ordinance, Chapter 14 of the Salt River Pima-Maricopa Indian Community Code of Ordinances reads as follows:

Sections 14-5(c)(4), 14-9(g), 14-18(o) and (t) of the Salt River Pima-Maricopa Indian Community Code of Ordinances shall be repealed and replaced in their entirety with the following, and a new Section 14-12 shall added:

Sec. 14-5(c)(4)

4. The office or the Salt River Police Department may cite a Licensee to appear before the office or the hearing officer for a hearing upon allegations of violations of articles II and III or any relevant law or regulation issued pursuant to this chapter 14.

Sec. 14-9(g)

In lieu of or in addition to any suspension, revocation or refusal to renew a license, the director may impose a civil penalty of not less than two hundred dollars ($200.00) and no more than three thousand dollars ($3,000.00) for each violation and/or require the licensee and its employees to attend certain training.

Sec. 14-12. Coordination With the Salt River Police Department

In order to effectively enforce the regulatory and law enforcement provisions of this chapter, any report of violence or disorderly conduct occurring at an licensed premises that is received by either the office or the Salt River Police Department shall be immediately reported by the receiving department to the other department. In addition to the reporting of the incident, the department receiving the report of violence or disorderly conduct shall also share any relevant information with the other department unless the sharing of such information is prohibited by Community law or policy.

Sec. 14-18

(o) It shall be unlawful for an on-sale retailer or employee of the licensee to conduct drinking contests, to sell or deliver to a person an unlimited number of alcoholic beverages during any set period of time for a fixed price, to deliver more than forty (40) ounces of beer, one (1) liter of wine or four (4) ounces of distilled spirits in any alcoholic beverage drink to one person at one time for that person's consumption or to advertise any practice prohibited by this paragraph.

(t) It shall be unlawful for a licensee or an employee of the licensee to fail or refuse to make the licensed premises or records available for inspection and examination or as to comply with a lawful subpoena issued under this chapter.

[FR Doc. 2013-17741 Filed 7-23-13; 8:45 am]

BILLING CODE 4310-4J-P